DEPARTMENT OF ENERGY

Federal Energy Regulatory Commission

[Project No. 2230-044]

City and Borough of Sitka, Alaska, Alaska; Notice of Availability of Environmental Assessment

In accordance with the National Environmental Policy Act of 1969 and the Federal Energy Regulatory Commission's (Commission or FERC's) regulations, 18 Code of Federal Regulations (CFR) part 380 (Order No. 486, 52 Federal Register [FR] 47897), Commission staff has reviewed the City and Borough of Sitka's application for a capacity-related amendment to the license for the Blue Lake Hydroelectric Project (FERC Project No. 2230) and has prepared an Environmental Assessment (EA). The project is located on Sawmill Creek, formerly the Medvetche River, in the Borough of Sitka, Alaska. The project currently occupies a total of 1,676 acres of federal lands administered by the U.S. Department of Agriculture, Forest Service, and under the City of Sitka's proposal, it would occupy 1,798 acres of federal lands.

The EA contains the Commission staff's analysis of the potential environmental effects of the proposed modifications to the project and the addition of new generating capacity and the conclusion that authorizing the amendment, with appropriate environmental protective measures, would not constitute a major federal action that would significantly affect the quality of the human environment.

A copy of the EA is available for review at the Commission in the Public Reference Room 2-A of the Commission's offices at 888 First Street NE., Washington, DC 20426. The EA also may be viewed on the Commission's Internet Web site at (www.ferc.gov) using the “eLibrary” link. Enter the docket number excluding the last three digits in the docket number field to access the document. Additional information about the project is available from the Commission's Web site using the eLibrary link. For assistance with eLibrary, contact FERCOnlineSupport@ferc.gov or toll-free at (866) 208-3676; for TTY contact (202) 502-8659.

You may also register online at www.ferc.gov/docs-filing/esubscription.asp to be notified via email of new filings and issuances related to this or other pending projects. For assistance, contact FERC Online Support.

Any comments should be filed within 30 days from the date of this notice. Comments may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filings, documents may also be paper-filed. To paper-file, mail an original and seven copies to: Kimberly D. Bose, Secretary, Federal Energy Regulatory Commission, 888 First Street NE., Washington, DC 20426.

For further information, contact Steven Sachs by telephone at (202) 502-8666 or by email at Steven.Sachs@ferc.gov.

Dated: January 12, 2012.
Kimberly D. Bose,
Secretary.

[FR Doc. 2012-1076 Filed 1-19-12; 8:45 am]

BILLING CODE 6717-01-P